EXPORT-IMPORT BANK

[Public Notice 77]

Agency Information Collection Activities: Proposed Collection; Comment Request

AGENCY: Export-Import Bank of the U.S.

ACTION: Notice and request for comments.

SUMMARY: The Export-Import Bank, as a part of its continuing effort to reduce paperwork and respondent burden, invites the general public and other Federal Agencies to comment on the proposed information collection, as required by the Paperwork Reduction Act of 1995. The form will be used by customers who originally applied for a multibuyer policy using EIB 92-50. Our customers will be able to submit this form on paper or electronically.

DATES: Written comments should be received on or before March 14, 2006 to be assured of consideration.

ADDRESSES: Direct all comments and requests for additional information to Walter Kosciow, Export-Import Bank of the U.S., 811 Vermont Avenue, NW., Washington, DC 20571, (202) 565-3649.

SUPPLEMENTARY INFORMATION:

Title and Form Number: Application for Special Buyer Credit Limit (SBCL) Under Multi-Buyer Export Credit Insurance Policies, EIB 92-51.

OMB Number: None.

Type of Review: Regular.

Need and Use: The information requested enables the applicant to provide Ex-Im Bank with the information necessary to obtain legislatively required assurance of repayment and fulfills other statutory requirements.

Affected Public: The form affects entities involved in the export of U.S. goods and Services.

Estimated Annual Respondents: 3,900.

Estimated Time Per Respondent: ½ hour.

Estimated Annual Burden: 1,950.

Frequency of Reporting or Use: 2-3 times per year.

Dated: January 9, 2006.
Solomon Bush,
Agency Clearance Officer.

BILLING CODE 6690-01-M

[FR Doc. 06-298 Filed 1-12-06; 8:45 am]

BILLING CODE 6690-01-C